DEPARTMENT OF THE INTERIOR

Office of Surface Mining Reclamation and Enforcement

[S1D1S SS08011000 SX064A000 201S180110; S2D2S SS08011000 SX064A000 20XS501520; OMB Control Number 1029-0116]

Agency Information Collection Activities; Submission to the Office of Management and Budget for Review and Approval; Revisions; Renewal; and Transfer, Assignment, or Sale of Permit Rights

AGENCY: Office of Surface Mining Reclamation and Enforcement, Interior.

ACTION: Notice of information collection; request for comment.

SUMMARY: In accordance with the Paperwork Reduction Act of 1995, we, the Office of Surface Mining Reclamation and Enforcement (OSMRE) are proposing to renew an information collection.

DATES: Interested persons are invited to submit comments on or before March 20, 2020.

ADDRESSES: Send written comments on this information collection request (ICR) to the Office of Management and Budget's Desk Officer for the Department of the Interior by email at OIRA_Submission@omb.eop.gov; or via facsimile to (202) 395-5806. Please provide a copy of your comments to Mark Gehlhar, Office of Surface Mining Reclamation and Enforcement, 1849 C Street NW, Room 4556-MIB, Washington, DC 20240; or by email to mgehlhar@osmre.gov. Please reference OMB Control Number 1029-0116 in the subject line of your comments.

FOR FURTHER INFORMATION CONTACT: To request additional information about this ICR, contact Mark Gehlhar by email at mgehlhar@osmre.gov, or by telephone at (202) 208-2716. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 2, 2018 (83 FR 49570). No comments were received.

We are again soliciting comments on the proposed ICR that is described below. We are especially interested in public comment addressing the following issues: (1) Is the collection necessary to the proper functions of the OSMRE; (2) will this information be processed and used in a timely manner; (3) is the estimate of burden accurate; (4) how might the OSMRE enhance the quality, utility, and clarity of the information to be collected; and (5) how might the OSMRE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Sections 506 and 511 of Public Law 95-87 provide that persons seeking permit revisions, renewals, transfer, assignment, or sale of their permit rights for coal mining activities submit relevant information to the regulatory authority to allow the regulatory authority to determine whether the applicant meets the requirements for the action anticipated.

Title of Collection: Revisions; Renewals; and Transfer, Assignment, or Sale of Permit Rights.

OMB Control Number: 1029-0116.

Form Number: None.

Type of Review: Extension of a currently approved collection.

Respondents/Affected Public: Surface coal mining permit applicants and State regulatory authorities.

Total Estimated Number of Annual Respondents: Varies from 185 for sale of permit rights to 2,188 for revisions from permit applicants; and 182 for sale of permit rights to 2,101 for revisions from State regulatory authorities.

Total Estimated Number of Annual Responses: 3,619 responses from permit applicants and 3,511 responses from State regulatory authorities.

Estimated Completion Time per Response: Varies from 2 to 70 hours per response for permit applicants; and 2 to 90 hours per response for State regulatory authorities, depending on permitting action.

Total Estimated Number of Annual Burden Hours: 404,165 hours.

Respondent's Obligation: Required to obtain or retain a benefit.

Frequency of Collection: One time.

Total Estimated Annual Nonhour Burden Cost: $909,758.

An agency may not conduct or sponsor and a person is not required to respond to a collection of information unless it displays a currently valid OMB control number.

The authority for this action is the Paperwork Reduction Act of 1995 (44 U.S.C. 3501 et seq.).

Dated: February 12, 2020.
Mark J. Gehlhar,
Information Collection Clearance Officer, Division of Regulatory Support.

[FR Doc. 2020-03169 Filed 2-18-20; 8:45 am]

BILLING CODE 4310-05-P